DEPARTMENT OF COMMERCE

Bureau of the Census

National Advisory Committee

AGENCY: Bureau of the Census, Department of Commerce.

ACTION: Notice of public virtual meeting.

SUMMARY: The Bureau of the Census (Census Bureau) is giving notice of a virtual meeting of the National Advisory Committee on Racial, Ethnic, and Other Populations (NAC). The NAC addresses policy, research, and technical issues relating to a full range of Census Bureau programs and activities, including decennial, economic, field operations, information technology, and statistics. Last minute changes to the schedule are possible, which could prevent giving advance public notice of schedule adjustments. Please visit the Census Advisory Committees website at http://www.census.gov/cac for the NAC meeting information, including the agenda, and how to join the meeting.

DATES: The virtual meeting will be held on:

• Thursday, May 6, 2021, from 11:00 a.m. to 5:00 p.m. EDT, and

• Friday, May 7, 2021, from 11:00 a.m. to 5:00 p.m. EDT

ADDRESSES: The meeting will be held via the WebEx platform at the following presentation links:

• May 6, 2021: https://uscensus.webex.com/uscensus/onstage/g.php?MTID=efcaf77a6e00f35b325d6d157519654e0

• May 7, 2021: https://uscensus.webex.com/uscensus/onstage/g.php?MTID=e2cd2832795b3add4e439d45b643ce718

For audio, please call the following number: 1-800-857-7003 OR 1-517-308-9428. When prompted, please use the following Password: @Nac1, and Passcode: 1129510.

FOR FURTHER INFORMATION CONTACT: Shana Banks, Advisory Committee Branch Chief, Office of Program, Performance and Stakeholder Integration (PPSI), shana.j.banks@census.gov, Department of Commerce, U.S. Census Bureau, telephone 301-763-3815. For TTY callers, please use the Federal Relay Service at 1-800-877-8339.

SUPPLEMENTARY INFORMATION: The Committee provides scientific and technical expertise to address Census Bureau program needs and objectives. The members of the NAC are appointed by the Director of the Census Bureau. The Committee has been established in accordance with the Federal Advisory Committee Act (Title 5, United States Code, Appendix 2, Section 10).

All meetings are open to the public. A brief period will be set aside during the virtual meeting for public comments on May 7, 2021. However, individuals with extensive questions or statements must submit them in writing to shana.j.banks@census.gov, (subject line “2021 NAC Spring Virtual Meeting Public Comment”).

Ron S. Jarmin, Acting Director, Bureau of the Census, approved the publication of this Notice in the Federal Register.
Dated: April 7, 2021.
Sheleen Dumas,
Department PRA Clearance Officer, Office of the Chief Information Officer, Commerce Department.

[FR Doc. 2021-07508 Filed 4-12-21; 8:45 am]

BILLING CODE 3510-07-P